DEPARTMENT OF HEALTH AND HUMAN SERVICES

Administration for Children and Families

Submission for Office of Management and Budget (OMB) Review; Community Services Block Grant (CSBG) Annual Report (OMB No. 0970-0492)

AGENCY: Office of Community Services, Administration for Children and Families, U.S. Department of Health and Human Services.

ACTION: Request for public comments.

SUMMARY: The Office of Community Services (OCS), Administration for Children and Families (ACF) requests an extension with substantial changes to the currently approved Community Services Block Grant (CSBG) Annual Report. This is specific to a significantly revised version (Annual Report 3.0), to begin as an option for use in Fiscal Year (FY) 2026 and to be required beginning in FY2027.

DATES: Comments due November 8, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Section 678E of the CSBG Act requires States, including the District of Columbia and the Commonwealth of Puerto Rico, and U.S. territories, to annually prepare and submit a report on the measured performance of the State and the eligible entities in the State. Prior to the participation of the State in the performance measurement system, the State shall include in the report any information collected by the State relating to such performance. Each State shall also include in the report an accounting of the expenditure of funds received by the State through the CSBG program, including an accounting of funds spent on administrative costs by the State and the eligible entities, and funds spent by the eligible entities on the direct delivery of local services, and shall include information on the number of and characteristics of clients served under the subtitle in the State, based on data collected from the eligible entities. The State shall also include in the report a summary describing the training and technical assistance offered by the State.

Section 3(b) of the Government Performance and Results (GPRA) Modernization Act of 2010 (GPRAMA) requires OCS, as an office under the U.S. Department of Health and Human Services, to collect performance information for the CSBG.

OCS has updated the Annual Report for future years, the CSBG Annual Report 3.0. This updated version was originally planned to be submitted in conjunction with the extension of version 2.1, but in an effort to be responsive to the public comments received during the 60-day comment period (89 FR 29339), OCS delayed submission of version 3.0. OCS has reviewed all comments and applied revisions to the instrument as a result of the feedback.

This request includes the final proposed CSBG Annual Report 3.0, which is a substantial revision of the current Annual Report form. This updated version streamlines State administrative information, as well as National Performance Indicators for individuals and families as reported by eligible entities. The proposed revisions seek to lessen the burden of the previous iteration of the report by decreasing the amount of data points collected, clarifying data points by using plain language, removing items not pertinent to annual report data collection, and improving data points to reflect industry standards in measuring the reduction of poverty. This revision would be an optional collection instrument in FY 2026 to support incremental implementation and minimize burden to the public and would become the required sole collection instrument in FY 2027. Copies of the proposed collections of information can be obtained by visiting: http://www.acf.hhs.gov/programs/ocs/programs/csbg.

There are no changes proposed to the other versions of the Annual Report, which can be found here: https://www.reginfo.gov/public/do/PRAICList?ref_nbr=202406-0970-004.

Respondents: State governments, including the District of Columbia, the Commonwealth of Puerto Rico, U.S. territories, directly funded federally and State-recognized tribes and CSBG eligible entities.

Annual Burden Estimates

Below is the estimated annual burden for data collection for all versions of the CSBG Annual Report, including Tribal reports. Please note that there are no changes to the Annual Report 2.1, the Tribal Annual Report or the Tribal Short Form. In FY24, States and Tribal grant recipients would be required to complete the current versions of the Annual Reports.

Instrument | Total number of respondents | Total number of responses per respondent | Average burden hours per response | Total burden hours | Annual burden hours
CSBG Annual Report 3.0 (States) | 56 | 2 | 124 | 13,888 | 4,629.3
CSBG Annual Report 3.0 (Eligible Entities) | 1,000 | 2 | 426 | 852,000 | 284,000
CSBG Annual Report 2.1 (States) | 56 | 1 | 198 | 11,088 | 3,696
CSBG Annual Report 2.1 (Eligible Entities) | 1,000 | 1 | 493 | 493,000 | 164,333.3
CSBG Tribal Annual Report | 24 | 3 | 111 | 7,992 | 2,664
CSBG Tribal Annual Report Short Form | 30 | 3 | 40 | 3,600 | 1,200
Total Estimates |  |  |  | 1,381,568 | 460,522.60

Comments: The Department specifically requests comments on the following:

1. Whether the proposed collection of information is necessary for the proper performance measurement of Federal, State, or local agencies.

2. The quality of the information to be collected.

3. The clarity of the information to be collected.

4. Does the information to be collected produce significant burden? If so, how could the burden be minimized on respondents, including using automated collection techniques or other forms of technology?

5. The accuracy of the agency's estimate of the burden of the proposed collection of information.

6. What, if any, additions, revisions, or modifications to the information collection would you suggest?

Consideration will be given to comments and suggestions submitted within 30 days of this publication.

Authority: 112 Stat. 2729; 42 U.S.C. 9902(2).

Mary C. Jones,
ACF/OPRE Certifying Officer.

[FR Doc. 2024-23271 Filed 10-8-24; 8:45 am]

BILLING CODE 4184-27-P